DEPARTMENT OF THE INTERIOR

Fish and Wildlife Service

50 CFR Part 17

[Docket No. FWS-R6-ES-2022-0100; FXES11130600000-223-FF06E00000]

RIN 1018-BG79

Endangered and Threatened Wildlife and Plants; Establishment of a Nonessential Experimental Population of the Gray Wolf in the State of Colorado; Final Environmental Impact Statement

AGENCY: Fish and Wildlife Service, Interior.

ACTION: Notification of the availability of a final environmental impact statement and draft record of decision.

SUMMARY: We, the U.S. Fish and Wildlife Service (Service), announce the availability of a final environmental impact statement (EIS) and draft record of decision (ROD) under the National Environmental Policy Act of 1969, as amended, for our intended action of establishing a nonessential experimental population (NEP) of the gray wolf (Canis lupus) in the State of Colorado. The State of Colorado (Colorado Parks and Wildlife, or CPW) requested that the Service establish an NEP in conjunction with their State-led gray wolf reintroduction effort. Establishment of this NEP under section 10(j) of the Endangered Species Act of 1973, as amended, would provide for allowable, legal, purposeful, and incidental take of the gray wolf within the State of Colorado, while also providing for the conservation of the species. In the FEIS, we analyzed the environmental consequences of a range of alternatives for our proposed rule. The action would be implemented through a final rule.

DATES: The Service will issue a record of decision no sooner than 30 days after publication of this announcement of the availability of the final EIS in the Federal Register.

ADDRESSES: Document availability: The final EIS, draft ROD, and other supporting documents are available on the internet at https://www.regulations.gov in Docket No. FWS-R6-ES-2022-0100 and on the Service's website at https://www.fws.gov/coloradowolf, or from the office listed in FOR FURTHER INFORMATION CONTACT.

FOR FURTHER INFORMATION CONTACT: Liisa Niva, Acting Field Supervisor, U.S. Fish and Wildlife Service, Colorado Ecological Services Field Office, 134 Union Boulevard, Suite 670, Lakewood, CO 80228; telephone 303-236-4773; email Colorado_wolf_10j@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We announce the availability of the final environmental impact statement (EIS) and our draft record of decision (ROD) for the proposed establishment of a nonessential experimental population (NEP) of the gray wolf (Canis lupus) in the State of Colorado under section 10(j) of the Endangered Species Act of 1973, as amended (16 U.S.C. 1531 et seq.). We developed the final EIS in compliance with the agency decision making requirements of the National Environmental Policy Act of 1969 (42 U.S.C. 4321 et seq.), as amended. Our final EIS provides updates, as needed, to information presented in the draft EIS, including revisions in response to issues raised in comments received during the public review period. We have described and evaluated all alternatives in our final EIS. Our draft decision is based on our review of the alternatives and their environmental consequences, as described in the final EIS.

Background

On July 21, 2022 (87 FR 43489), we published a notification of intent to prepare an environmental impact statement (EIS) for this action and held public scoping meetings, in person on August 2, 3, and 4, and virtually on August 10, 2022. Cooperating agencies included multiple Federal and State agencies, Tribal Governments, and local governments. We also participated in Tribal working groups and Tribal coordination meetings. Additionally, we shared information with the public through a dedicated website, emails, in-person meetings, and webinars.

We published the proposed rule and noticed the availability of the draft EIS on February 17, 2023 (88 FR 10258), which opened a 60-day public comment period for both documents. During the public comment period, we hosted four in-person informational public meetings on March 14, 15, 16, and 28, and a virtual public meeting on March 22, 2023. The public comment period closed on April 18, 2023. We received 4,290 pieces of correspondence during the public comment period, with 1 correspondence having 16,233 signatures. We developed our final EIS after assessing and considering all comments, both individually and collectively. Our response to the substantive comments that we received are provided as an appendix to the final EIS.

Authors

The primary authors of this notice are the staff members of the Colorado Ecological Services Field Office (see FOR FURTHER INFORMATION CONTACT).

Authority

The authority for this action is the Endangered Species Act of 1973 (16 U.S.C. 1531 et seq.) and the National Environmental Policy Act of 1969 (42 U.S.C. 4321 et seq.).

Marjorie Nelson,
Acting Assistant Regional Director, U.S. Fish and Wildlife Service.

[FR Doc. 2023-20175 Filed 9-15-23; 8:45 am]

BILLING CODE 4333-15-P